SMALL BUSINESS ADMINISTRATION

[Declaration of Disaster #3281]

State of New Jersey (Amendment #1)

In accordance with a notice from the Federal Emergency Management Agency, dated August 30, 2000, the above-numbered Declaration is hereby amended to establish the incident period for this disaster as beginning on August 12, 2000 and continuing through August 21, 2000.

All other information remains the same, i.e., the deadline for filing applications for physical damage is October 16, 2000 and for economic injury the deadline is May 17, 2001.

(Catalog of Federal Domestic Assistance Program Nos. 59002 and 59008)
Dated: September 5, 2000.
Herbert L. Mitchell,
Acting Associate Administrator for Disaster Assistance.

[FR Doc. 00-23763 Filed 9-14-00; 8:45 am]

BILLING CODE 8025-01-P